DEPARTMENT OF HOUSING AND URBAN DEVELOPMENT

24 CFR Part 5

[Docket No. FR-6464-C-03]

RIN 2501-AE11

Adoption of 2020 Core Based Statistical Area Standards; Correction

AGENCY: Office of the Secretary, U.S. Department of Housing and Urban Development.

ACTION: Final rule; correction.

SUMMARY: The Department of Housing and Urban Development (HUD) is correcting a final rule entitled, “Adoption of 2020 Core Based Statistical Area Standards” that published in the Federal Register on December 6, 2024.

DATES: Effective January 6, 2025.

FOR FURTHER INFORMATION CONTACT: With respect to this technical correction, contact Allison Lack, Assistant General Counsel for Regulations, Department of Housing and Urban Development, 451 7th Street SW, Room 10238, Washington, DC 20410; telephone number 202-708-1793 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: On December 6, 2024 (89 FR 96898), HUD published a final rule that adopts the 2020 Core Based Statistical Area (CBSA) standards as determined by the Office of Management and Budget's July 16, 2021, Federal Register notice for all HUD uses of CBSAs. The rule amended 24 CFR part 5 by adding a new subpart M. In reviewing the December 6, 2024, final rule, HUD identified an inadvertent error in § 5.3001. Specifically, HUD incorrectly designated two paragraphs as paragraph (e) and two paragraphs as paragraph (f). This document corrects these errors.

Correction

In FR Doc. 2024-28450, published December 6, 2024, at 89 FR 96898, the following corrections are made:

§ 5.3001 [Corrected]

1. On page 96901, in the first column, the second paragraph (e) is redesignated as paragraph (g), the second paragraph (f) is redesignated as paragraph (h), and paragraphs (g) and (h) are redesignated as paragraph (i) and (j), respectively.

Aaron Santa Anna,
Associate General Counsel, Office of Legislation and Regulations.

[FR Doc. 2024-29682 Filed 12-16-24; 8:45 am]

BILLING CODE 4210-67-P